DEPARTMENT OF COMMERCE

Office of the Secretary

Renewal of Currently Approved Information Collection; Comment Request; Challenge and Prize Competition Solicitations Generic Clearance

AGENCY: Office of the Secretary, Commerce.

ACTION: Notice.

SUMMARY: The Department of Commerce (DOC), as part of its continuing effort to reduce paperwork and respondent burden, invites the general public and other Federal agencies to comment on continuing to collect routine information from participants in challenges and competitions that the department posts on Challenge.gov, as required by the Paperwork Reduction Act of 1995. The purpose of this notice is to allow for 60 days of public comment.

DATES: To ensure consideration, written or online comments must be submitted on or before May 26, 2020.

ADDRESSES: Direct all written comments to the Department Paperwork Reduction Act Clearance Officer, Department of Commerce, Room 6616, 14th and Constitution Avenue NW, Washington, DC 20230 (or via the internet at PRAcomments@doc.gov. All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to the DOC PRA Clearance Officer, Office of Policy and Governance, 14th and Constitution Avenue NW, Room 6616, Washington, DC 20230, (202) 482-3306 or at PRAcomments@doc.gov.

SUPPLEMENTARY INFORMATION:

I. Abstract

This request is a renewal of a generic clearance for the collection of routine information requested of respondents in challenges and competitions that the Department of Commerce posts on the General Service Administration (GSA)'s Challenge.gov website since passage of the America COMPETES Act of 2011. In order for DOC to quickly and effectively launch competitions on a continual basis, DOC seeks generic clearance to collect information for these challenges and competitions, which will generally include first name, last name, email, city, state and when applicable other demographic information. It can also include other information necessary to evaluate submissions and understand their impact related to the general goals of the competition. Upon entry or during the judging process, applicants under the age of 18 may be asked to confirm parental consent, requiring students under 18 to have a parent's signature on a parental consent form provided by the DOC in order to qualify for the contest. For certain challenges we may also need to collect data such as types of data sets used in the solution, types of software tools used in the solution, and information regarding uses of proprietary software (i.e., licenses or use agreements). Information obtained from participants will be used by the program managers (challenge manager), technical reviewers, and other agency officials (such agency counsels.

In 2011, Federal agencies including DOC were given prize authority for administering challenges and competitions. Section 105(a) of the America Competes Act, adds Section 24 to the Stevenson-Wydler Technology Innovation Act of 1980 (15 U.S.C. 3701 et seq.) that addresses provisions for challenges and competitions with prizes conducted by Federal agencies. Challenges and competitions enable DOC to tap into the expertise and creativity of the public in new ways. DOC evaluates submissions and typically awarded monetary or non-monetary prizes to winning entries. DOC may sponsor challenges and competitions in a wide variety of areas to increase public participation and solicit new ideas on a wide array of topics important to the agencies mission. DOC's goal is to engage a broader number of stakeholders who are inspired to work on some of our most pressing issues.

The information collected will be used to understand whether the participant has met the technical requirements for the challenge, assist in the technical review and judging of the solutions that are provided, and assess how the competition was administered. Information may be collected during the competition or after its completion.

This clearance applies to challenges posted on Challenge.gov, which uses a common platform for the solicitation of challenges from the public. Each agency designs the criteria for its solicitations based on the goals of the challenge and the specific needs of the agency. There is no standard submission format for solution providers to follow, and there is no set schedule for the issuance of challenges; they are developed and issued on an “as needed” basis in response to issues the federal agency wishes to solve.

II. Method of Collection

The primary method of collection will be the internet (electronically). Some supporting documents may be emailed, mailed, or collected in person.

III. Data

OMB Control Number: 0690-0031.

Form Number(s): None.

Type of Review: Regular submission [Extension of a current information collection].

Affected Public: Individuals or Households, Businesses or for-profit organizations, State, Local or Tribal Government, etc.

Estimated Number of Respondents: 1560.

Estimated Time per Response: 10-30 minutes.

Estimated Total Annual Burden Hours: 260.

Estimated Total Annual Cost to Public: $900.

Respondent's Obligation: Voluntary.

Frequency of Requests: One-time.

Legal Authority: 15 U.S.C. 3701 et seq.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 19, 2020.
Sheleen Dumas,
Department PRA Clearance Officer, Office of the Chief Information Officer, Commerce Department.

[FR Doc. 2020-06169 Filed 3-23-20; 8:45 am]

BILLING CODE 3510-13-P